DEPARTMENT OF TRANSPORTATION

Federal Aviation Administration

14 CFR Part 39

[Docket No. FAA-2020-0900; Product Identifier 2020-NM-080-AD; Amendment 39-21400; AD 2021-02-17]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A318 series airplanes; Model A319-111, A319-112, A319-113, A319-114, A319-115, A319-131, A319-132, A319-133, A319-151N, and A319-153N airplanes; Model A320 series airplanes; and Model A321 series airplanes. This AD was prompted by the results of laboratory tests on non-rechargeable lithium batteries installed in emergency locator transmitters (ELT), which highlighted a lack of protection against certain currents that could lead to thermal runaway and a battery fire. This AD requires modifying a certain ELT by installing a diode in the airplane circuit connecting the ELT battery, as specified in a European Union Aviation Safety Agency (EASA) AD, which is incorporated by reference. The FAA is issuing this AD to address the unsafe condition on these products.

DATES: This AD is effective March 30, 2021.

The Director of the Federal Register approved the incorporation by reference of certain publications listed in this AD as of March 30, 2021.

ADDRESSES: For EASA material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. For Airbus SAS service information incorporated by reference in this AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0900.

Examining the AD Docket

You may examine the AD docket on the internet at https://www.regulations.gov by searching for and locating Docket No. FAA-2020-0900; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Discussion

The EASA, which is the Technical Agent for the Member States of the European Union, has issued EASA AD 2020-0103, dated May 7, 2020; corrected May 8, 2020 (EASA AD 2020-0103) (also referred to as the Mandatory Continuing Airworthiness Information, or the MCAI), to correct an unsafe condition for all Airbus SAS Model A318-111, A318-112, A318-121, A318-122 airplanes; Model A319-111, A319-112, A319-113, A319-114, A319-115, A319-131, A319-132, A319-133, A319-151N, and A319-153N airplanes; Model A320-211, A320-212, A320-214, A320-215, A320-216, A320-231, A320-232, A320-233, A320-251N, A320-252N, A320-253N, A320-271N, A320-272N, and A320-273N airplanes; and Model A321-111, A321-112, A321-131, A321-211, A321-212, A321-213, A321-231, A321-232, A321-251N, A321-252N, A321-253N, A321-271N, A321-272N, A321-251NX, A321-252NX, A321-253NX, A321-271NX, and A321-272NX airplanes. Model A320-215 airplanes are not certificated by the FAA and are not included on the U.S. type certificate data sheet; this AD therefore does not include those airplanes in the applicability.

The FAA issued a notice of proposed rulemaking (NPRM) to amend 14 CFR part 39 by adding an AD that would apply to all Airbus SAS Model A318 series airplanes; Model A319-111, A319-112, A319-113, A319-114, A319-115, A319-131, A319-132, A319-133, A319-151N, and A319-153N airplanes; Model A320 series airplanes; and Model A321 series airplanes. The NPRM published in the Federal Register on October 1, 2020 (85 FR 61884). The NPRM was prompted by the results of laboratory tests on non-rechargeable lithium batteries installed in ELTs, which highlighted a lack of protection against certain currents that could lead to thermal runaway and a battery fire. The NPRM proposed to require modifying a certain ELT by installing a diode in the airplane circuit connecting the ELT battery, as specified in an EASA AD.

The FAA is issuing this AD to address this unsafe condition, which could result in local (temporary) fires and could result in damage to the airplane and injury to occupants. See the MCAI for additional background information.

Comments

The FAA gave the public the opportunity to participate in developing this final rule. The following presents the comment received on the NPRM and the FAA's response.

Request To Allow the Use of Additional Service Information

American Airlines (AA) requested that operators be allowed to use the following Airbus SAS technical adaptations (TAs) during accomplishment of the related Airbus SAS service bulletins that are specified in EASA AD 2020-0103. The commenter noted that certain airplane maintenance manual (AMM) tasks referred to in Airbus SAS Service Bulletin A320-25-1BQN, dated December 5, 2019; and Service Bulletin A320-25-1BQP, dated December 5, 2019; are incorrect. The commenter stated that it contacted Airbus SAS regarding this issue and Airbus SAS' response was that there is no planned revision to these service bulletins to correct the references to the incorrect AMM tasks.

The FAA agrees with the commenter's request for the reason provided. The FAA has added paragraph (h)(4) to this AD to allow use of the correct TAs.

Conclusion

The FAA reviewed the relevant data, considered the comment received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-0103 describes procedures for modifying a certain ELT by installing a diode in the airplane circuit connecting the ELT battery.

Airbus SAS has issued the following TAs, which specify the correct AMM tasks for doing the BITE [built-in test equipment] test of the ELT specified in the related Airbus SAS service bulletins. These TAs are distinct since they apply to different service bulletins specified in EASA AD 2020-0103.

• Airbus SAS TA 80724343/009/2020, Issue 1, dated May 20, 2020.

• Airbus SAS TA 80832689/007/2020, Issue 2, dated October 29, 2020.

This material is reasonably available because the interested parties have access to it through their normal course of business or by the means identified in the ADDRESSES section.

Clarification of Maintenance Activities With an Affected Part

EASA AD 2020-0103 defines an affected part as an ELT having part number (P/N) 01N65900. When the modification (installation of a diode) is completed, the part number of the ELT does not change. The intent of paragraph (1) of EASA AD 2020-0103 is to require, for airplanes that have an affected ELT installed, operators to do the modification within 24 months. For these airplanes, operators can remove an ELT having P/N 01N65900 and reinstall that same part during maintenance activities within the 24 month compliance for doing the modification. After the modification is done, operators can install an ELT having P/N 01N65900 as long as the modification is not removed.

Costs of Compliance

The FAA estimates that this AD affects 1,100 airplanes of U.S. registry. The FAA estimates the following costs to comply with this AD:

Estimated Costs for Required Actions
Labor cost | Parts cost | Cost per product | Cost on U.S. operators
3 work-hours × $85 per hour = $255 | $450 | $705 | $775,500

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-02-17 Airbus SAS: Amendment 39-21400; Docket No. FAA-2020-0900; Product Identifier 2020-NM-080-AD.

(a) Effective Date

This airworthiness directive (AD) is effective March 30, 2021.

(b) Affected ADs

None.

(c) Applicability

This AD applies to the Airbus SAS airplanes specified in paragraphs (c)(1) through (4) of this AD, certificated in any category, all manufacturer serial numbers.

(1) Model A318-111, A318-112, A318-121, and A318-122 airplanes.

(2) Model A319-111, A319-112, A319-113, A319-114, A319-115, A319-131, A319-132, A319-133, A319-151N, and A319-153N airplanes.

(3) Model A320-211, A320-212, A320-214, A320-216, A320-231, A320-232, A320-233, A320-251N, A320-252N, A320-253N, A320-271N, A320-272N, and A320-273N airplanes.

(4) Model A321-111, A321-112, A321-131, A321-211, A321-212, A321-213, A321-231, A321-232, A321-251N, A321-252N, A321-253N, A321-271N, A321-272N, A321-251NX, A321-252NX, A321-253NX, A321-271NX, and A321-272NX airplanes.

(d) Subject

Air Transport Association (ATA) of America Code 25, Equipment/Furnishings.

(e) Reason

This AD was prompted by the results of laboratory tests on non-rechargeable lithium batteries installed in emergency locator transmitters (ELT), which highlighted a lack of protection against currents of 28 volts DC or 115 volts AC that could lead to thermal runaway and a battery fire. The FAA is issuing this AD to address this unsafe condition, which could result in local (temporary) fires, and could result in damage to the airplane and injury to occupants.

(f) Compliance

Comply with this AD within the compliance times specified, unless already done.

(g) Requirements

Except as specified in paragraph (h) of this AD: Comply with all required actions and compliance times specified in, and in accordance with, European Union Aviation Safety Agency (EASA) AD 2020-0103, dated May 7, 2020; corrected May 8, 2020 (EASA AD 2020-0103).

(h) Exceptions to EASA AD 2020-0103

(1) Where EASA AD 2020-0103 refers to its effective date, this AD requires using the effective date of this AD.

(2) The “Remarks” section of EASA AD 2020-0103 does not apply to this AD.

(3) Where paragraph (3) of EASA AD 2020-0103 specifies the parts installation limitation, for this AD, comply with paragraph (i) of this AD.

(4) This AD allows the use of the airplane maintenance manual (AMM) tasks for the BITE [built-in test equipment] test of the ELT specified in the Airbus SAS technical adaptations (TAs) identified in paragraphs (h)(4)(i) and (ii) of this AD, in lieu of the AMM tasks specified in the applicable Airbus SAS service bulletins specified in EASA AD 2020-0103.

(i) Airbus SAS TA 80724343/009/2020, Issue 1, dated May 20, 2020.

(ii) Airbus SAS TA 80832689/007/2020, Issue 2, dated October 29, 2020.

(i) Parts Installation Limitation

(1) For airplanes that do not have an ELT having part number (P/N) 01N65900 installed as of the effective date of this AD: As of the effective date of this AD, no person may install an ELT having P/N 01N65900 on any airplane unless the airplane has been modified as required by paragraph (1) of EASA AD 2020-0103.

(2) For airplanes that have an ELT having P/N 01N65900 installed as of the effective date of this AD: After modification of the airplane as required by paragraph (1) of EASA AD 2020-0103, no person may install an ELT having P/N 01N65900 on that airplane if the modification is removed.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraphs (h)(4) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, Large Aircraft Section, International Validation Branch, FAA, 2200 South 216th St., Des Moines, WA 98198; telephone and fax 206 231 3223; email Sanjay.Ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0103, dated May 7, 2020; corrected May 8, 2020.

(ii) Airbus SAS Technical Adaptation 80724343/009/2020, Issue 1, dated May 20, 2020.

Note 1 to paragraphs (l)(2)(ii) and (iii): The issue date of the document is identified only on the last page of the document.

(iii) Airbus SAS Technical Adaptation 80832689/007/2020, Issue 2, dated October 29, 2020.

(3) For EASA AD 2020-0103, contact the EASA, Konrad-Adenauer-Ufer 3, 50668 Cologne, Germany; telephone +49 221 8999 000; email ADs@easa.europa.eu; internet www.easa.europa.eu. You may find this EASA AD on the EASA website at https://ad.easa.europa.eu.

(4) For Airbus SAS service information, contact Airbus SAS, Airworthiness Office—EIAS, Rond-Point Emile Dewoitine No: 2, 31700 Blagnac Cedex, France; telephone +33 5 61 93 36 96; fax +33 5 61 93 44 51; email account.airworth-eas@airbus.com; internet https://www.airbus.com.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0900.

(6) You may view this material that is incorporated by reference at the National Archives and Records Administration (NARA). For information on the availability of this material at NARA, email fedreg.legal@nara.gov, or go to: https://www.archives.gov/federal-register/cfr/ibr-locations.html.

Issued on January 14, 2021.
Ross Landes,
Deputy Director for Regulatory Operations, Compliance & Airworthiness Division, Aircraft Certification Service.

[FR Doc. 2021-03569 Filed 2-22-21; 8:45 am]

BILLING CODE 4910-13-P